SMALL BUSINESS ADMINISTRATION

Notice of Advisory Council Public Meeting

The Small Business Administration Region 5 Wisconsin District Advisory Council, located in the geographical area of Milwaukee, Wisconsin, will hold a public meeting at 12 noon on Wednesday, September 17, 2003, at the metro Milwaukee Area Chamber Building 756 North Milwaukee Street 4th Floor, Milwaukee, WI 53202 to discuss such matters as may be presented by members, staff of the Small Business Administration, or others present.

Anyone wishing to make an oral presentation to the Board must contact Yolanda Staples Lassiter, EDA, in writing by letter or by fax at (202) 481-5885 no later than September 15, 2003, in order to be put on the agenda. For further information, write or call Yolanda Staples Lassiter, EDA U.S. Small Business Administration, 310 West Wisconsin Ave., Suite 400 Milwaukee, Wisconsin 53203, (414) 297-1090.

Scott Morris,
Deputy Chief of Staff.

[FR Doc. 03-23114 Filed 9-10-03; 8:45 am]

BILLING CODE 8025-01-P